ENVIRONMENTAL PROTECTION AGENCY

[FRL-6535-7]

Agency Information Collection Activities: Submission for OMB Review; Comment Request; Operating Permits Regulations

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: 40 CFR part 70 Operating Permits Regulations, OMB Control Number 2060-0243, expiration date: February 29, 2000. The ICR describes the nature of the information collection and its expected burden and cost; where appropriate, it includes the actual data collection instrument.

DATES: Comments must be submitted on or before March 15, 2000.

FOR FURTHER INFORMATION: For a copy of the ICR, contact Sandy Farmer at EPA by phone at 202-260-2740, by e-mail at farmer.sandy@epa.gov, or download off the Internet at http://www.epa.gov/icr and refer to EPA ICR No. 1587.05. For technical questions about the ICR, contact Roger Powell at (919) 541-5331.

SUPPLEMENTARY INFORMATION: Title: Part 70 Operating Permits Regulations (OMB Control No. 2060-0243) expiring 02/29/00. This is a renewal of a currently approved collection.

Abstract: In implementing title V of the Clean Air (Act) and EPA's part 70 operating permits regulations, State and local permitting agencies must development programs and submit them to EPA for approval (section 502(d) of the Act) and sources subject to the program must prepare operating permit applications and submit them to the permitting authority within 1 year after approval of the program by EPA (section 503 of the Act). Permitting authorities will then issue permits (section 503(c) of the Act) and thereafter enforce, revise, and renew those permits at no more than 5-year intervals (section 502(d) of the Act). Permit applications and proposed permits will be provided to, and are subject to review by, EPA (section 505(a) of the Act). All information submitted by a source and the issued permit shall also be available for public review except for confidential information which will be protected from disclosure (section 503(e) of the Act) and the public shall be given public notice of, and an opportunity for comment on, permit actions (section 502(b)(6) of the Act). Sources will semi-annually submit compliance monitoring reports to the permitting authorities (section 504(a) of the Act). The EPA has the responsibility to oversee implementation of the program (section 502(d)(3) of the Act).

The activities that will occur during the period of this ICR include:

• Permitting authorities issuing the remaining permits;

• Sources submitting semi-annual monitoring and annual compliance certification reports;

• Permitting authorities reviewing those reports;

• Sources submitting applications for permit revisions;

• Permitting authorities processing permit revisions;

• Sources applying for permit renewal;

• Permitting authorities renewing permits;

• Newly subject sources submitting permit applications; and

• Permitting authorities issuing new permits.

All of these activities involve information transmittal in the form of applications and permit actions and information in the form of applications and draft permits are made available for public review and comment. The activities to carry out these tasks are considered mandatory and necessary for implementation of title V and the proper operation of the operating permits program. The information will also be available for public inspection at any time in the offices of the permitting authorities.

An agency may not conduct or sponsor, and a person is not required to respond to, a collection of information unless it displays a currently valid OMB control number. The OMB control numbers for EPA's regulations are listed in 40 CFR part 9 and 48 CFR Chapter 15. The Federal Register Notice required under 5 CFR 1320.8(d), soliciting comments on this collection of information was published on October 18, 1999 (64 FR 56207). No comments were received.

Burden statement: The annual public reporting and record keeping burden for this collection of information cannot be estimated in terms of an average hours per response due to the large number or respondents, the variation in the circumstances for each respondent, and the varied nature of the activities of the program. In terms of average burden per respondent, the ICR estimates the 112 permitting authorities will average 14,152 hours per year implementing this program. The 20,924 estimated part 70 sources will average 153 hours per year complying with this program. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State and local permitting authorities and sources subject to the part 70 operating permits program.

Estimated Number of Respondents: 21,036.

Frequency of Response: The activities included in this ICR cover all aspects of implementing the part 70 operating permits program. Reporting includes the semi-annual monitoring reports and the annual compliance certification reports from sources to permitting authorities and the annual report of enforcement activities from the permitting authorities to EPA. All other activities are either one-time occurrences or on an as-needed basis (i.e., permit revisions).

Estimated Total Annual Hour Burden: 4,779,620 hours.

Estimated Total Annualized Non-labor Cost Burden: $0.

Send comments on the Agency's need for this information, the accuracy of the provided burden estimates, and any suggested methods for minimizing respondent burden, including through the use of automated collection techniques, to the following addresses. Please refer to EPA ICR No. 1587.05 and OMB Control No. 2060-0243 in any correspondence.

Ms. Sandy Farmer, U.S. Environmental Protection Agency, Office of Environmental Information, Collection Strategies Division (2822), 1200 Pennsylvania Avenue, NW, Washington, DC 20460;

and

Office of Information and Regulatory Affairs, Office of Management and Budget, Attention: Desk Officer for EPA, 725 17th Street, NW, Washington, DC 20503

Dated: February 10, 2000.
Oscar Morales,
Director, Collection Strategies Division, Office of Environmental Information.

[FR Doc. 00-3362 Filed 2-11-00; 8:45 am]

BILLING CODE 6560-50-P